DEPARTMENT OF TRANSPORTATION

Federal Aviation Administration

14 CFR Part 71

[Docket No. FAA-2024-1347; Airspace Docket No. 23-AWP-47]

RIN 2120-AA66

Amendment of United States Area Navigation Routes Q-1 and Q-902, Very High Frequency Omnidirectional Range Federal Airway V-495, and Jet Route J-502. Also, the Revocation of Jet Route J-589 and the Establishment of United States Area Navigation Route T-487 and Canadian Area Navigation Route T-895 in Northwestern United States

AGENCY: Federal Aviation Administration (FAA), DOT.

ACTION: Final rule.

SUMMARY: This action amends United States Area Navigation (RNAV) Route Q-1, Canadian RNAV Route Q-902, Very High Frequency Omnidirectional Range (VOR) Federal Airway V-495, and Jet Route J-502; revokes Jet Route J-589; and establishes United States RNAV Route T-487 in Northwestern United States. The FAA is taking these airspace actions due to the pending decommissioning of the Victoria, British Columbia (BC), Canada, VOR/Distance Measuring Equipment (VOR/DME) navigational aid (NAVAID). The establishment of Canadian RNAV Route T-895 is being dropped from this action.

DATES: Effective date 0901 UTC, December 26, 2024. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Office of Policy, Federal Aviation Administration, 600 Independence Avenue SW, Washington, DC 20597; telephone: (202) 267-8783.

FOR FURTHER INFORMATION CONTACT: Steven Roff, Rules and Regulations Group, Office of Policy, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the National Airspace System.

History

The FAA published a notice of proposed rulemaking for Docket No. FAA-2024-1347 in the Federal Register (89 FR 46038; May 28, 2024), to amend RNAV Routes Q-1 and Q-902, VOR Federal Airway V-495, and Jet Route J-502; revoke Jet Route J-589; and establish United States RNAV Route T-487 and Canadian RNAV Route T-895 in Northwestern United States due to the pending decommissioning of the Victoria, BC, Canada VOR/DME NAVAID. Interested parties were invited to participate in this rulemaking effort by submitting written comments on the proposal. No comments were received.

Differences From the NPRM

Subsequent the NPRM publishing in the Federal Register, NAV CANADA, the Air Traffic Service (ATS) provider in Canada, withdrew their support for establishing Canadian RNAV Route T-895 between the VIXOR, BC, Canada, waypoint (WP) being established approximately 43 feet from the Victoria, BC, Canada VOR/DME and the ADUMS, WA, WP. As such, the FAA is removing the proposed establishment of Canadian RNAV route T-895 within United States airspace from this action.

Additionally, subsequent to the NPRM, the FAA updated the geographic coordinates of the new SQUIM, WA, WP on Q-1 from “lat. 48°14′27″ N, long. 123°27′39″ W” to “lat. 48°14′27″ N, long. 123°27′39.32″ W” to more accurately place the SQUIM WP on the United States/Canadian border. The updated geographic coordinates are included in the Q-1 description in the regulatory text of this rule.

The FAA is also making minor editorial amendments to the RNAV routes Q-1 and Q-902, and VOR Federal Airway V-495 descriptions in the regulatory text of this rule to comply with FAA Order JO 7400.2 airspace and ATS route legal description formatting guidance. The editorial amendments do not affect the alignment of the routes or airway as proposed in the NPRM.

Lastly, subsequent to the NPRM, the FAA recognized Canadian RNAV route Q-902 was inadvertently listed under FAA Order JO 7400.11, paragraph 2006, United States Area Navigation Routes, instead of being listed under FAA Order JO 7400.11, paragraph 2007, Canadian Area Navigation Routes, in the regulatory text of the NPRM. This rule corrects that inadvertent error by reflecting RNAV route Q-902 under the appropriate FAA Order JO 7400.11, paragraph 2007, reference.

Incorporation by Reference

Jet Routes are published in paragraph 2004, United States RNAV Routes (Q-routes) are published in paragraph 2006, Canadian RNAV Routes are published in paragraph 2007, VOR Federal Airways are published in paragraph 6010(a), and United States RNAV Routes (T-routes) are published in paragraph 6011 of FAA Order JO 7400.11, Airspace Designations and Reporting Points, which is incorporated by reference in 14 CFR 71.1 on an annual basis. This document amends the current version of that order, FAA Order JO 7400.11J, dated July 31, 2024, and effective September 15, 2024. FAA Order JO 7400.11J is publicly available as listed in the ADDRESSES section of this document. These amendments will be published in the next update to FAA Order JO 7400.11.

FAA Order JO 7400.11J lists Class A, B, C, D, and E airspace areas, air traffic service routes, and reporting points.

The Rule

This action amends 14 CFR part 71 by amending United States RNAV Route Q-1 and Canadian RNAV Route Q-902, VOR Federal Airway V-495, and Jet Route J-502. This action also revokes Jet Route J-589 and establishes United States RNAV Route T-487 due to the pending decommissioning of the Victoria, BC, Canada, VOR/DME. The ATS route actions are listed below:

Q-1: Q-1 extends between the Point Reyes, CA, VOR/DME and the ELMAA, WA, Fix. The route is extended north of the ELMAA Fix to the SQUIM, WA, WP. The SQUIM WP is a new waypoint that replaces the CFPZJ computer navigation fix (CNF) on the United States/Canada border. As amended, Q-1 now extends between the Point Reyes VOR/DME and the SQUIM WP.

Q-902: Q-902 extends between the Kotzebue, AK, VOR/DME and the Seattle, WA, VORTAC, excluding the airspace within Canada. The DISCO, WA, WP is relocated to the United States/Canada border and replaces the CDGPN CNF. Additionally, the HIGHE, AK, WP replaces the CFSTF CNF on the United States/Canada border. Additionally, the route points previously listed within Canada are removed from the description. As amended, Q-902 now extends between the Kotzebue, AK, VOR/DME and the AYZOL, AK, WP; between the WOGUS, AK, WP and the HIGHE, AK, WP; and between the DISCO, WA, WP and the Seattle, WA, VOR/Tactical Air Navigation (VORTAC).

V-495: V-495 extends between the Abbotsford, BC, Canada, Nondirectional Radio Beacon (NDB) and the Fort Jones, CA, VOR/DME, excluding the airspace within Canada. The portion of the airway within United States airspace between the Seattle VORTAC and the Abbotsford, BC, Canada, NDB is removed. Additionally, the airway points are listed south to north in the description in the regulatory text of this rule. As amended, V-495 now extends between the Fort Jones VOR/DME and the Seattle VORTAC.

J-502: J-502 extends between the Sisters Island, AK, VORTAC and the Seattle, WA, VORTAC; and between the Kotzebue, AK, VOR/DME and the Northway, AK, VORTAC, excluding the airspace within Canada. The portion of the route between the Sisters Island VORTAC and the Seattle VORTAC is removed. As amended, J-502 now extends between the Kotzebue VOR/DME and the Northway VORTAC.

J-589: J-589 extends between the Roseburg, OR, VOR/DME and the Victoria, BC, Canada, VOR/DME, excluding the airspace within Canada. The route is revoked in its entirety.

T-487: T-487 is a new RNAV route established as a replacement for the segment of V-495 removed between the Seattle, WA, VORTAC and the United States/Canada border. The DISCO, WA, WP is relocated to the United States/Canada border and replaces the CDGPN CNF. As amended, T-487 extends between the Seattle VORTAC and the DISCO WP.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5k, which categorically excludes from further environmental impact review the publication of existing air traffic control procedures that do not essentially change existing tracks, create new tracks, change altitude, or change concentration of aircraft on these tracks. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 2004 Jet Routes.

* * * * *

J-502 [Amended]

From Kotzebue, AK; Fairbanks, AK; to Northway, AK.

* * * * *

J-589 [Removed]

* * * * *

Paragraph 2006 United States Area Navigation Routes.

* * * * *

Q-1 Point Reyes, CA (PYE) to SQUIM, WA [Amended]
Point Reyes, CA, (PYE) | VOR/DME | (Lat. 38°04′47.12″ N, long. 122°52′04.18″ W)
ETCHY, CA | WP | (Lat. 39°05′28.00″ N, long. 123°08′05.00″ W)
SQUIM, WA | WP | (Lat. 48°14′27.00″ N, long. 123°27′39.32″ W)

* * * * *

Paragraph 2007 Canadian Area Navigation Routes.

* * * * *

Q-902 Kotzebue, AK (OTZ) to Seattle, WA, (SEA) [Amended]
Kotzebue, AK (OTZ) | VOR/DME | (Lat. 66°53′08.46″ N, long. 162°32′23.77″ W)
Fairbanks, AK (FAI) | VORTAC | (Lat. 64°48′00.25″ N, long. 148°00′43.11″ W)
Northway, AK (ORT) | VORTAC | (Lat. 62°56′49.92″ N, long. 141°54′45.39″ W)
AYZOL, AK | WP | (Lat. 62°28′16.15″ N, long. 141°00′00.00″ W)
and
WOGUS, AK | WP | (Lat. 59°17′02.82″ N, long. 136°28′09.43″ W)
Sisters Island, AK (SSR) | VORTAC | (Lat. 58°10′39.58″ N, long. 135°15′31.91″ W)
Level Island, AK (LVD) | VOR/DME | (Lat. 56°28′03.75″ N, long. 133°04′59.21″ W)
Annette Island, AK (ANN) | VOR/DME | (Lat. 55°03′37.47″ N, long. 131°34′42.24″ W)
HIGHE, AK | WP | (Lat. 54°41′50.08″ N, long. 131°11′21.72″ W)
and
DISCO, WA | WP | (Lat. 48°22′35.52″ N, long. 123°09′32.88″ W)
Seattle, WA (SEA) | VORTAC | (Lat. 47°26′07.34″ N, long. 122°18′34.62″ W)

* * * * *

Paragraph 6010(a) Domestic VOR Federal Airways.

* * * * *

V-495 [Amended]

From Fort Jones, CA; INT Fort Jones 340° and Roseburg, OR, 174° radials; INT Roseburg 355° and Corvallis, OR, 195° radials; Corvallis; Newberg, OR; Battle Ground, WA; to Seattle, WA.

* * * * *

Paragraph 6011 United States Area Navigation Routes.

* * * * *

T-487 Seattle, WA (SEA) to DISCO, WA [NEW]
Seattle, WA (SEA) | VORTAC | (Lat. 47°26′07.34″ N, long. 122°18′34.62″ W)
DISCO, WA | WP | (Lat. 48°22′35.52″ N, long. 123°09′30.88″ W)

* * * * *

Issued in Washington, DC, on October 18, 2024.
Frank Lias,
Manager, Rules and Regulations Group.

[FR Doc. 2024-24590 Filed 10-23-24; 8:45 am]

BILLING CODE 4910-13-P